DEPARTMENT OF ENERGY

Federal Energy Regulatory Commission

[Docket Nos. RP00-497-002 and RP01-47-004]

Viking Gas Transmission Company; Notice of Compliance Filing

January 27, 2003.

Take notice that on January 23, 2003, Viking Gas Transmission Company (Viking) tendered for filing as part of its FERC Gas Tariff, First Revised Volume No. 1 the tariff sheets listed on Appendix A to the filing, to become effective January 1, 2003.

Viking states that the purpose of this filing is to comply with the Order on Compliance with Order No. 637, that the Commission issued on December 24, 2002 in the above-referenced proceedings.

Viking states that copies of the filing have been mailed to all of its jurisdictional customers, to affected state regulatory commissions and all parties to this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 4, 2003.

Magalie R. Salas,
Secretary.

[FR Doc. 03-2268 Filed 1-30-03; 8:45 am]

BILLING CODE 6717-01-P